DEPARTMENT OF THE INTERIOR

Fish and Wildlife Service

[FWS-R1-R-2011-N068; 1265-0000-10137-S3]

James Campbell National Wildlife Refuge, Honolulu County, HI; Draft Comprehensive Conservation Plan and Environmental Assessment

AGENCY: Fish and Wildlife Service, Interior.

ACTION: Notice of availability; request for comments.

SUMMARY: We, the U.S. Fish and Wildlife Service (Service), announce the availability of our draft comprehensive conservation plan and environmental assessment (Draft CCP/EA) for the James Campbell National Wildlife Refuge (Refuge), for public review and comment. The Draft CCP/EA describes our proposal for managing the Refuge for the next 15 years.

DATES: To ensure consideration, please send your written comments by August 1, 2011.

ADDRESSES: The Draft CCP/EA is available on our Web site: http://www.fws.gov/jamescampbell/. A limited number of printed and CD-ROM copies of the Draft CCP/EA are available by request. You may request a copy of the Draft CCP/EA or submit comments on it by any of the following methods.

E-mail: FW1PlanningComments@fws.gov. Include “James Campbell Refuge CCP” in the subject line of the message.

Fax: Attn: David Ellis, Project Leader, (808) 637-3578.

U.S. Mail: David Ellis, Project Leader, O`ahu National Wildlife Refuge Complex, 66-590 Kamehameha Highway, Room 2C, Hale`iwa, HI 96712.

FOR FURTHER INFORMATION CONTACT: David Ellis, Project Leader, (808) 637-6330.

SUPPLEMENTARY INFORMATION:

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We started the CCP planning process by publishing a Notice of Intent (NOI) in the Federal Register on December 1, 2008 (74 FR 8564), announcing our intention to complete a CCP/EA for the James Campbell and Pearl Harbor National Wildlife Refuges (the Pearl Harbor National Wildlife Refuge CCP was completed in fall 2010). Simultaneously, we released Planning Update 1. We invited the public to two open house meetings and requested public comments in the NOI and Planning Update 1. We held the open house meetings in Pearl City, Hawai`i, on December 9, 2008; and in Kahuku, Hawai`i on January 8, 2009. In Planning Update 2, distributed in June 2009, we provided a summary of the comments we received and described Refuge resources. Planning Update 3, distributed in August 2010, provided a preview of the management goals as well as a summary of each management alternative designed to accomplish these goals. All of the public comments we have received to date were considered during development of the Draft CCP/EA.

Draft CCP Alternatives We Are Considering

Alternative A, No Action

Under Alternative A, we would continue current management. This includes focusing threatened and endangered species management on protection and successful nesting, in support of the statewide effort to implement the Hawaiian Waterbird Recovery Plan. Public use programs would remain virtually unchanged. Units would remain closed to general public entry except for seasonal docent-guided tours and Special Use Permits issued on a case-by-case basis for environmental education, research, and other compatible uses. Newly acquired expansion lands would receive custodial oversight only, no habitat restoration would occur, and no additional visitor services would be provided. Both current commercial aquaculture leases would remain in effect until 2023 at which time, by prior agreement, they would expire.

Alternative B, Partial Restoration and Management of Refuge Expansion Lands

Current habitat management programs would continue. On newly acquired Refuge lands, only the highest priority wetlands and coastal dunes would be restored and fenced to exclude large predators. Within five years of acquiring new Refuge lands, a Visitor Services Plan (VSP) would be developed to identify, evaluate, and carefully select the types of wildlife-oriented activities we would provide the public, and the sites and locations for infrastructure needed to fully support safe, meaningful, and high-quality programs for the public. Infrastructure needs identified by the VSP would include safe roads, parking areas, trails, and an overlook. We would also identify and develop any new special regulations in the VSP, which may be needed to protect sensitive wildlife resources, the fragile coastline, and the visiting public. During the interim five-year period until the VSP is prepared, the current public use program would continue under Alternative B, with slight increases in opportunities for wildlife observation and photography. The Refuge would participate and partner with other agencies and the community of Kahuku, to develop, evaluate, and implement projects to mitigate flood damage to the local area, if practical and feasible. Both current commercial aquaculture leases will remain in effect until 2023, at which time, by prior agreement, they will expire.

Alternative C, Full Restoration and Management of Refuge Expansion Lands

In addition to management actions identified in Alternative B, all wetlands, coastal dunes/strand, and scrub/shrub habitats would be restored and managed. Trial use of predator-proof fencing would be initiated on selected dune or wetland sites, to protect seabirds or waterbirds. Abandoned aquaculture facilities would be cleaned up, and the habitat would be restored to natural conditions or other approved uses.

Public Availability of Documents

We encourage you to stay involved in the CCP planning process by reviewing and commenting on the proposals we have developed in the Draft CCP/EA. Copies of the Draft CCP/EA are available by request from David Ellis, Project Leader, O`ahu National Wildlife Refuge Complex, 66-590 Kamehameha Highway, Room 2C, Hale`iwa, HI 96712. The Draft CCP/EA will also be available for viewing and downloading on the Internet at http://www.fws.gov/pacific/planning.

Next Steps

After this comment period ends, we will analyze the comments and address them in the Final CCP and decision document.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: April 21, 2011.
Chris McKay,
Acting Regional Director, Region 1, Portland, Oregon.

[FR Doc. 2011-16466 Filed 6-29-11; 8:45 am]

BILLING CODE 4310-55-P